NUCLEAR REGULATORY COMMISSION

[Docket No. 040-38417; CEQ ID EAXX-429-00-000-1750645380; NRC-2025-0084]

Disa Technologies, Inc.; Draft Generic Environmental Assessment and Finding of No Significant Impact

AGENCY: Nuclear Regulatory Commission.

ACTION: Notice; request for comment.

SUMMARY: The U.S. Nuclear Regulatory Commission (NRC) is issuing for public comment a draft generic environmental assessment (EA) and finding of no significant impact (FONSI) regarding the proposed issuance of a multi-site service provider license to Disa Technologies, Inc., (Disa) for its high-pressure slurry ablation (HPSA) technology to remediate abandoned uranium mine (AUM) waste. Disa's request is to use the HPSA technology to perform remediation at certain AUM sites after additional site-specific safety and environmental information is provided to and approved by the NRC.

DATES: Submit comments by September 8, 2025. Comments received after this date will be considered if it is practical to do so, but the Commission is able to ensure consideration only for comments received on or before this date.

ADDRESSES: You may submit comments by any of the following methods; however, the NRC encourages electronic comment submission through the Federal rulemaking website.

• Federal rulemaking website: Go to https://www.regulations.gov and search for Docket ID NRC-2025-0084. Address questions about Docket IDs in Regulations.gov to Bridget Curran; telephone: 301-415-1003; email: Bridget.Curran@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Christine Pineda, Office of Nuclear Material Safety and Safeguards, U.S. Nuclear Regulatory Commission, Washington, DC 20555-0001; telephone: 301-415-6789; email: Christine.Pineda@nrc.gov.

SUPPLEMENTARY INFORMATION:

I. Obtaining Information and Submitting Comments

A. Obtaining Information

Please refer to Docket ID NRC-2025-0084 when contacting the NRC about the availability of information for this action. You may obtain publicly available information related to this action by any of the following methods:

• Federal Rulemaking Website: Go to https://www.regulations.gov and search for Docket ID NRC-2025-0084.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0084 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Introduction

The NRC is considering issuance of a multi-site, service provider license to Disa, for operation of its HPSA process at AUM sites located in fourteen western States, namely Arizona, California, Colorado, Idaho, Montana, New Mexico, Nevada, North Dakota, Oregon, South Dakota, Texas, Utah, Washington, Wyoming, and the Navajo Nation. As required by section 51.21 of title 10 of the Code of Federal Regulations (10 CFR), “Criteria for identification of licensing and regulatory actions requiring environmental assessments,” the NRC has prepared a draft generic EA documenting its preliminary finding. The NRC concluded that the proposed action would have no significant impact if conditions and proposed operations at each site meet the assumptions detailed in the draft generic EA. The draft generic EA is available in ADAMS under Accession No. ML25216A003. For each site, the NRC will review the site-specific information and supplement this evaluation as appropriate. A summary of the draft generic EA follows.

III. Summary of Draft Generic Environmental Assessment

Description of the Proposed Action

Disa would use its HPSA technology in the form of mobile units to treat mine waste at AUM sites. Use of the HPSA process to separate uranium and thorium fines from mine waste rock and soils would result in licensable quantities and concentrations of source material. The NRC is proposing to issue a license to Disa under 10 CFR part 40, “Domestic Licensing of Source Material,” for the possession and processing of source material ore. If granted, the license would allow Disa to operate HPSA at AUM sites after the NRC has reviewed the site-specific characteristics and operating plans that Disa would submit before mobilizing to a site.

The length of time Disa would operate at each site depends on the amount of material to be processed and could range from about 6 months for small sites to almost 13 years for large sites. HPSA uses mechanical and kinetic energy to separate mineral-rich patinas containing source material (uranium and/or thorium) and other metals from host sand grains. The HPSA treatment would generate two products: coarse material and fines concentrates. Disa states that the coarse material would be an inert sand and would be reintegrated into the mine sites, assuming the material meets NRC and other regulatory requirements. The fines concentrates, which would contain uranium and/or thorium and other metals, would be transported to a licensed recipient such as a low-level radioactive waste disposal facility, a uranium recovery facility, or a storage facility. After HPSA operations conclude, Disa would demobilize and leave the site, including deposited coarse material, in a condition that meets NRC requirements for unrestricted release.

The proposed action is in accordance with the applicant's application dated March 28, 2025 (ADAMS Package Accession No. ML25087A094) as supplemented by letters dated June 16, 2025 (ADAMS Accession No. ML25167A328) and July 31, 2025 (ADAMS Package Accession No. ML25213A083).

The Need for the Proposed Action

The purpose of the proposed NRC action, issuance of the license, is to allow Disa to conduct HPSA activities safely in accordance with the conditions of the license and with applicable NRC requirements under 10 CFR part 20, “Standards for Protection Against Radiation,” and part 40, “Domestic Licensing of Source Material.” Disa proposes to conduct HPSA activities in part to respond to a need identified by the U.S. Environmental Protection Agency (EPA) to remediate abandoned uranium mine sites. The EPA has documented approximately 15,000 AUMs primarily in 14 western States, including areas on the Navajo Nation. These sites resulted from a uranium mining industry that began in the 1940s to produce uranium for weapons and later for nuclear fuel.

Environmental Impacts of the Proposed Action

The NRC staff developed a generic assessment of the potential environmental impacts of operating the HPSA process at AUM sites. The NRC staff assessed the potential impacts on land use; historic and cultural resources; visual and scenic resources; air quality; geology and soils; water resources; ecological resources; socioeconomics; noise; transportation; public and occupational health and safety; and waste management. The NRC staff determined that the proposed action would not have significant impacts on these resource areas if all of the assumptions described in the draft generic EA are met at a given site. Before mobilizing to a site, Disa would provide site-specific information to the NRC in a premobilization notification, which the NRC staff would review to determine whether the generic EA's assumptions apply for a site. If any assumptions for a specific site would not be met, the NRC staff would conduct a site-specific review to assess the impacts for that site. In all cases, the NRC or its designee would conduct site-specific consultations to fulfill its consultation responsibilities under Section 7 of the Endangered Species Act and Section 106 of the National Historic Preservation Act. In all cases, the NRC staff will evaluate the potential impacts of depositing the coarse material back onto the site after HPSA operations conclude.

Environmental Impacts of the Alternatives to the Proposed Action

As an alternative to the proposed issuance of a license to Disa, the NRC considered the no-action alternative. Under the no-action alternative, the NRC would not issue the license and Disa would not be allowed to operate its HPSA units at AUM sites. A consequence of denying the license could be that Disa submits a revised application, or that AUM sites potentially suitable for HPSA would need to be remediated using other means. In the absence of HPSA operations, the NRC would not be involved in AUM site cleanup unless the remedial activity involves another NRC licensee or applicant.

The potential environmental impacts of the no-action alternative would include the direct impacts of continuing current site conditions (i.e., no change to a site) as well as the potential impacts of using remediation alternatives instead of the proposed action. The potential impacts of continuing current site conditions include the continued unavailability of AUM land for human use and the avoidance of the impacts assessed generically in the EA for the proposed HPSA operations. However, the NRC does not have authority over AUM site cleanup and did not assess further in the draft generic EA the potential impacts of other remedial actions beyond its jurisdiction and authority. The draft generic EA generally describes two main approaches EPA uses for remediating AUM sites: excavation and removal is one approach and consolidation and capping is another. These and other approaches might be used instead of the HPSA process or in addition to it.

Agencies and Persons Consulted

The NRC has published the draft generic EA to receive comments from individual members of the public, Federal and State agencies, American Indian Tribes, organizations, and other entities. Disa would submit site-specific information to the NRC approximately 90 days before mobilizing to a site. During its review of this information about HPSA operations at a particular site, the NRC staff would consult as needed with the state, agencies of interested American Indian Tribes, and other Federal agencies.

IV. Preliminary Finding of No Significant Impact

On the basis of the draft generic EA, the NRC concludes that the proposed action will not have a significant effect on the quality of the human environment. Accordingly, the NRC has determined not to prepare an environmental impact statement for the proposed action.

As described in the draft generic EA, before Disa mobilizes to a site, the NRC staff would review Disa's operating plans and the conditions at that site. The NRC staff would compare the site-specific information to the assumptions in the generic EA. If HPSA operations at a site would meet all of the assumptions in the EA, the FONSI would apply for that site. If some assumptions are not met, the NRC staff would conduct an analysis to identify the site-specific impacts for those environmental areas. In all cases, the NRC or its designee will conduct site-specific reviews and consultations under Section 106 of the National Historic Preservation Act and Section 7 of the Endangered Species Act and will assess the site-specific impacts of depositing coarse material onto the site. This site-specific analysis would result in a FONSI or, if necessary, a determination that an environmental impact statement should be prepared.

Dated: August 6, 2025.
For the Nuclear Regulatory Commission.
Robert Sun,
Chief, Environmental Project Management Branch 2, Division of Rulemaking, Environmental, and Financial Support, Office of Nuclear Material Safety and Safeguards.

[FR Doc. 2025-15087 Filed 8-7-25; 8:45 am]

BILLING CODE 7590-01-P